DEPARTMENT OF HOMELAND SECURITY

U.S. Customs and Border Protection

[OMB Control Number 1651-0138]

Agency Information Collection Activities; Revision; Biometric Identity

AGENCY: U.S. Customs and Border Protection (CBP), Department of Homeland Security.

ACTION: 60-Day notice and request for comments.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than May 24, 2024) to be assured of consideration.

ADDRESSES: Written comments and/or suggestions regarding the item(s) contained in this notice must include the OMB Control Number 1651-0138 in the subject line and the agency name. Please submit written comments and/or suggestions in English. Please use the following method to submit comments:

Email. Submit comments to: CBP_PRA@cbp.dhs.gov.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Biometric Identity.

OMB Number: 1651-0138.

Form Number: N/A.

Current Actions: Revision.

Type of Review: Revision.

Affected Public: Individuals.

Abstract: In order to enhance national security, the Department of Homeland Security is developing a biometric based entry and exit system capable of improving the information resources available to immigration and border management decision-makers. These biometrics may include: digital fingerprint scans, facial images, iris images or other biometrics. Biometrics may be collected from travelers entering or exiting the United States, including the collection of biometrics from vehicles upon entry. CBP continues to test and evaluate different technological and operational changes to improve the accuracy and speed of biometric collection.

The federal statutes that mandate DHS to create a biometric entry and exit system include: Section 2(a) of the Immigration and Naturalization Service Data Management Improvement Act of 2000 (DMIA), Public Law 106-215, 114 Stat. 337 (2000); Section 205 of the Visa Waiver Permanent Program Act of 2000, Public Law 106-396, 114 Stat. 1637, 1641 (2000); Section 414 of the Uniting and Strengthening America by Providing Appropriate Tools Required to Intercept and Obstruct Terrorism Act of 2001 (USA PATRIOT Act), Public Law 107-56, 115 Stat. 272, 353 (2001); Section 302 of the Enhanced Border Security and Visa Entry Reform Act of 2002 (Border Security Act), Public Law 107-173, 116 Stat. 543, 552, (2002); Section 7208 of the Intelligence Reform and Terrorism Prevention Act of 2004 (IRTPA), Public Law 108-458, 118 Stat. 3638, 3817 (2004); Section 711 of the Implementing Recommendations of the 9/11 Commission Act of 2007, Public Law 110-53, 121 Stat. 266 (2007), Consolidated Appropriations Act, 2016, Public Law 114-113, 129 Stat. 2242, 2493 (2016), Section 110 of the Illegal Immigration Reform and Immigrant Responsibility Act of 1996, Public Law 104-208, 110 Stat. 3009-546 (1997), Section 802 of the Trade Facilitation and Trade Enforcement Act of 2015, Public Law 114-125, 130 Stat. 122, 199 (2015), and Sections 214, 215(a), 235(a), 262(a), 263(a) and 264(c) of the Immigration and Nationality Act of 1952, as amended, 8 U.S.C. 1184, 1185(a), 1225(a), 1302(a)(1303(a), 1304(c) and 1365b.

New Change

This revision submission will increase the number of respondents whose biometrics are collected in vehicles, and to seek an exemption from PRA citation requirements on biometric/privacy signage. CBP ports of entry and external partners such as airports and seaports post biometric entry-exit privacy signage at those locations where facial comparison technology is in use by or on behalf of CBP. Due to operation costs to main signage to be complaint with PRA requirements, CBP requests that in lieu of placing the OMB number's expiration date on the privacy signage, CBP will link/reference the OMB number, expiration date, and PRA language on CBP's biometric website: www.cbp.gov/travel/biometrics. In lieu of displaying the PRA language on the signage, it will be listed on the website along with the current expiration date. This exception reduces the reprint cost to the U.S. government and the external stakeholders and allows the current privacy signage to remain 508 compliant and PBRB approved.

Type of Information Collection: Biometric Data, Fingerprint Modality.

Estimated Number of Respondents: 58,657,882.

Estimated Number of Annual Responses per Respondent: 1.

Estimated Number of Total Annual Responses: 58,657,882.

Estimated Time per Response: .0097 hours.

Estimated Total Annual Burden Hours: 568,981.

Type of Information Collection: Facial/Iris Modality.

Estimated Number of Respondents: 54,542,118.

Estimated Number of Annual Responses per Respondent: 1.

Estimated Number of Total Annual Responses: 54,542,118.

Estimated Time per Response: .0025 hours.

Estimated Total Annual Burden Hours: 136,355.

Type of Information Collection: Facial Scan/Vehicle Modality.

Estimated Number of Respondents: 20,000,000.

Estimated Number of Annual Responses per Respondent: 1.

Estimated Number of Total Annual Responses: 20,000,000.

Estimated Time per Response: 0.

Estimated Total Annual Burden Hours: 0.

Dated: March 20, 2024.
Seth D. Renkema,
Branch Chief, Economic Impact Analysis Branch, U.S. Customs and Border Protection.

[FR Doc. 2024-06254 Filed 3-22-24; 8:45 am]

BILLING CODE 9111-14-P